DEPARTMENT OF JUSTICE

Notice of Lodging of Consent Decree Pursuant to the Clean Water Act and the Clean Air Act

In accordance with Departmental policy and 28 CFR 50.7, the Department of Justice gives notice that a proposed consent decree in the case captioned United States v. Alcoa Inc., Civil Action No. EV0049C-Y/H (S.D. Ind.), was lodged with the United States District Court for the Southern District of Indiana on March 13, 2000. The proposed consent decree addresses violations of the Clean Water Act, 33 U.S.C. 1251 et seq., and the Clean Air Act, 42 U.S.C. 7401 et seq., by Alcoa Inc. (“Alcoa”) at its primary reduction and secondary aluminum production plant in Newburgh, Warrick County, Indiana, and would resolve the violations alleged in the complaint in the case through the date of lodging of the consent decree.

The proposed consent decree would, among other things, require Alcoa to pay the United States a $2.4 million civil penalty (plus interest on that amount accruing from the date of lodging), implement specified Clean Water Act and Clean Air Act compliance measures, and perform a Supplemental Environmental Project estimated by Alcoa to cost $5.4 million.

The Department of Justice will receive, for a period of thirty (30) days from the date of this publication, comments relating to the proposed consent decree. Comments should be addressed to the Assistant Attorney General, Environment and Natural Resources Division, United States Department of Justice, P.O. Box 7611, Washington, DC 20044-7611, and should refer to United States v. Alcoa Inc., Civil Action No. EV0049C-Y/H (S.D. Ind.), and DOJ Reference No. 90-5-2-1-2222.

The proposed consent decree may be examined at: (1) the Office of the United States Attorney for the Southern District of Indiana, 46 East Ohio Street—5th Floor, Indianapolis, Indiana 46204; and (2) the United States Environmental Protection Agency (Region 5), 77 West Jackson Boulevard, Chicago, Illinois 60604 (contact Jeffery Trevino (312-886-6729)). A copy of the proposed consent decree may also be obtained by mail from the Department of Justice Consent Decree Library, P.O. Box 7611, Washington, DC 20044-7611. In requesting copies, please refer to the referenced case and DOJ Reference Number, and enclose a check for $10.75 (43 pages at 25 cents per page reproduction costs), made payable to the Consent Decree Library.

Joel M. Gross,
Chief, Environmental Enforcement Section, Environment and Natural Resources Division.

[FR Doc. 00-9156 Filed 4-12-00; 8:45 am]

BILLING CODE 4410-15-M